DEPARTMENT OF COMMERCE

National Oceanic and Atmospheric Administration

[RTID 0648-XB448]

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will meet the new Assistant Administrator for Fisheries and hear Administration priorities. They will also discuss building resilient fisheries, the seafood sector, and coastal communities reliant on marine resources; the Subcommittee on Aquaculture strategic plans; and climate science and the Next-Gen Data Acquisition Plan. Status updates will be provided on the fiscal year (FY) 2022 budget outlook, operations, facilities, and workforce management issues, as well as progress reports from MAFAC's Recreational Electronic Reporting Task Force and planning for the 2022 Recreational Fisheries Summit.

DATES: The meeting will be October 12, 13, and 14, 2021 from 12 p.m.-5 p.m., Eastern Time.

ADDRESSES: Meeting is by webinar and teleconference.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee.

Matters To Be Considered

This meeting time and agenda are subject to change. The members will meet the new Assistant Administrator for Fisheries and hear Administration priorities. They will also discuss building resilient fisheries, the seafood sector, and coastal communities reliant on marine resources; the Subcommittee on Aquaculture strategic plans; and climate science and the Next-Gen Data Acquisition Plan. Status updates will be provided on the FY2022 budget outlook, operations, facilities, and workforce management issues, as well as progress reports from MAFAC's Recreational Electronic Reporting Task Force and planning for the 2022 Recreational Fisheries Summit. MAFAC members will discuss various administrative and organizational matters, and meetings of subcommittees will convene.

Time and Date

The meeting is scheduled for October 12, 13, and 14, 2021 from 12 p.m.-5 p.m., Eastern Time by webinar and conference call. Access information for the public will be posted at https://www.fisheries.noaa.gov/national/partners/marine-fisheries-advisory-committee-meeting-materials-and-summaries by October 4, 2021.

Dated: September 21, 2021.
Jennifer L. Lukens,
Federal Program Officer, Marine Fisheries Advisory Committee, National Marine Fisheries Service.

[FR Doc. 2021-20782 Filed 9-23-21; 8:45 am]

BILLING CODE 3510-22-P